SECURITIES AND EXCHANGE COMMISSION

Sunshine Act Meetings

TIME AND DATE: Notice is hereby given, pursuant to the provisions of the Government in the Sunshine Act, Public Law 94-409, that the Securities and Exchange Commission will hold an Open Meeting on Wednesday, May 17, 2023 at 10:00 a.m.

PLACE: The meeting will be webcast on the Commission's website at www.sec.gov.

STATUS: This meeting will begin at 10:00 a.m. (ET) and will be open to the public via webcast on the Commission's website at www.sec.gov.

MATTERS TO BE CONSIDERED:

1. The Commission will consider whether to propose a new rule under the Securities Exchange Act of 1934 regarding the contents of a covered clearing agency's recovery and wind-down plan and whether to amend Rule 17Ad-22(e)(6) under the Securities Exchange Act of 1934 regarding the margin requirements applicable to a covered clearing agency providing central counterparty services.

CONTACT PERSON FOR MORE INFORMATION: For further information and to ascertain what, if any, matters have been added, deleted or postponed, please contact Vanessa A. Countryman from the Office of the Secretary at (202) 551-5400.

(Authority: 5 U.S.C. 552b.)

Dated: May 10, 2023.
Vanessa A. Countryman,
Secretary.

[FR Doc. 2023-10318 Filed 5-11-23; 11:15 am]

BILLING CODE 8011-01-P